DEPARTMENT OF HEALTH AND HUMAN SERVICES

Centers for Disease Control and Prevention

Board of Scientific Counselors, Office of Public Health Preparedness and Response, (BSC, OPHPR)

AGENCY: Centers for Disease Control and Prevention (CDC), Department of Health and Human Services (HHS).

ACTION: Notice of meeting.

SUMMARY: In accordance with the Federal Advisory Committee Act, the CDC announces the following meeting for the Board of Scientific Counselors, Office of Public Health Preparedness and Response, (BSC, OPHPR). This meeting is open to the public, limited only by the room seating. The meeting room accommodates up to 80 people. Public participants should pre-register for the meeting as described below. Members of the public that wish to attend this meeting in person should pre-register by submitting the following information by email, facsimile, or phone (see Contact Person for More Information) no later than 12:00 noon (EDT) on Wednesday, May 2, 2018:

• Full Name

• Organizational Affiliation

• Complete Mailing Address

• Citizenship

• Phone Number or Email Address

The public is also welcome to listen to the meeting by via Adobe Connect. Pre-registration is required by clicking the links below.

WEB ID: May 9, 2018 (100 Seats) https://adobeconnect.cdc.gov/e9teo9x7k41/event/registration.html.

WEB ID: May 10, 2018 (100 Seats) https://adobeconnect.cdc.gov/e2jt3r7tvlj/event/registration.html.

Dial in number: 800-857-9618; Participant code: 6838980. (100 Seats).

DATES: The meeting will be held on May 9, 2018, 10:00 a.m.-5:30 p.m., EDT and May 10, 2018, 8:30 a.m.-3:30 p.m., EDT.

ADDRESSES: Centers for Disease Control and Prevention (CDC), Global Communications Center, Building 19, Auditorium B3, 1600 Clifton Road NE, Atlanta, Georgia 30329.

FOR FURTHER INFORMATION CONTACT: Dometa Ouisley, Office of Science and Public Health Practice, Centers for Disease Control and Prevention, 1600 Clifton Road NE, Mailstop D-44, Atlanta, Georgia 30329, Telephone: (404) 639-7450; Facsimile: (404) 471-8772; Email: OPHPR.BSC.Questions@cdc.gov.

SUPPLEMENTARY INFORMATION:

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review for OPHPR scientific programs. For additional information about the Board, please visit: http://www.cdc.gov/phpr/science/counselors.htm.

Matters To Be Considered: The agenda will include discussions on Day one of the meeting that will cover briefings and BSC deliberation on the following topics: Interval updates from the OPHPR Director and OPHPR Divisions and Offices; updates from the Biological Agent Containment working group; discussion of Industry, Private Sector, and Public Health Interactions Supporting Emergency Preparedness and Response; and Preparedness Updates from Liaison Representatives.

Day two of the meeting will cover briefings and BSC deliberation on the following topics: OPHPR Office of Policy, Planning and Evaluation activities; CDC's Data Preparedness activities; Public Health System Perspectives on Hurricanes Response; and Excellence in Response Operations Initiative. Agenda items are subject to change as priorities dictate.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-06546 Filed 3-30-18; 8:45 am]

BILLING CODE 4163-19-P